NUCLEAR REGULATORY COMMISSION

10 CFR Parts 1, 9, 19, 20, 30, 35, 40, 52, 55, 60, 61, 70, 73, 110, 170, and 171

[NRC-2011-0169]

RIN 3150-AJ01

Miscellaneous Administrative Changes

AGENCY: Nuclear Regulatory Commission.

ACTION: Final rule.

SUMMARY: The U.S. Nuclear Regulatory Commission (NRC or the Commission) is amending its regulations to make miscellaneous administrative changes, including updating the street address for its Region IV office and correcting an authority citation and typographical and spelling errors, and other edits and conforming changes. This document is necessary to inform the public of these changes to the NRC's regulations.

DATES: This rule is effective December 22, 2011.

ADDRESSES: You can access publicly available documents related to this final rule using the following methods:

• NRC's Public Document Room (PDR): The public may examine and have copies made, for a fee, publicly available documents at the NRC's PDR, Room O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov.

• Federal Rulemaking Web Site: Supporting materials related to this final rule can be found at http://www.regulations.gov by searching on Docket ID: NRC-2011-0169. Address questions about NRC dockets to Carol Gallagher; telephone at (301) 492-3668; email: Carol.Gallagher@nrc.gov.

FOR FURTHER INFORMATION CONTACT: Christina England, Rules, Announcements, and Directives Branch, Division of Administrative Services, Office of Administration, U.S. Nuclear Regulatory Commission, Washington, DC 20555-0001, telephone: (301) 492-3663, email: Christina.England@nrc.gov; or Angella Love Blair, Rules, Announcements, and Directives Branch, Division of Administrative Services, Office of Administration, U.S. Nuclear Regulatory Commission, Washington, DC 20555-0001, telephone: (301) 492-3671, email: Angella.Love-Blair@nrc.gov.

SUPPLEMENTARY INFORMATION:

Introduction

The NRC is amending its regulations at Title 10 of the Code of Federal Regulations (10 CFR) parts 1, 9, 19, 20, 26, 30, 35, 40, 52, 55, 60, 61, 70, 73, 110, 170, and 171 to make miscellaneous administrative changes. These changes include correcting the authority citation for 10 CFR part 61, updating the street address for its Region IV office, correcting typographical and spelling errors, and making other edits and conforming changes.

Summary of Changes

Replace “NRC's Electronic Reading Room” With “NRC Library”

The name of the NRC's online repository, formerly called “NRC's Electronic Reading Room” and “Electronic Reading Room,” has been changed to “NRC Library.” Only the name has changed; the Web site address remains the same. The new name is incorporated into § 9.27(a) of the NRC's regulations. In addition, the new name is incorporated in the definition of “NRC Public Document Room” by replacing the term “Electronic Reading Room” with “NRC Library” in § 60.2 of the NRC's regulations.

Correct Spelling Errors

In § 19.14(b), an “r” was inadvertently included in the word “phases” resulting in a different word, “phrases.” In § 19.14(b), the word “phrases” is replaced with the word “phases.”

In § 60.75(c)(2), an “m” was inadvertently omitted from the word “accomodate.” In § 60.75(c)(2), the word “accomodate” is replaced with the word “accommodate.”

Add Missing Conjunction

In § 35.50, the word “and” is missing between § 35.50(a)(2)(ii)(B) and 35.50(a)(2)(iii), due to a clerical error resulting from an administrative change in January 2007 (71 FR 15008). The word “and” is added at the end of § 35.50(a)(2)(ii)(B) after the semicolon.

Remove Misprinted Reference

In § 35.50(b)(1)(i), the reference, “(ii)”, incorrectly appears after the word “areas” and a dash. The reference is removed from the end of 10 CFR 35.50(b)(1)(i).

Update the Commercial Telephone Number of the NRC Operations Center

The commercial telephone number for the NRC Operations Center has been changed. The new number, (301) 816-5100, is listed in footnote 3 to § 35.3045(c).

Correct Zip Code

The zip code, “20582,” that is listed in Appendices A, B, and C to 10 CFR part 52 is incorrect. The correct zip code, “20852,” is incorporated into paragraphs III.A of Appendices A, B, and C.

Correct the Authority Citation for 10 CFR Part 61

The authority citation for 10 CFR part 61 was revised by the final rule, “Clarification of NRC Civil Penalty Authority Over Contractors and Subcontractors Who Discriminate Against Employees for Engaging in Protected Activities,” on November 14, 2007 (72 FR 63939). The authority citation was further revised by the administrative rule, “Administrative Changes” on July 23, 2008 (73 FR 42671); however, a subsequent final rule, “Regulatory Changes to Implement the Additional Protocol to the US/IAEA Safeguards Agreement,” (73 FR 78599; December 23, 2008) inadvertently included the authority citation from the 2007 final rule. The authority citation is revised to correctly reflect that of the 2008 administrative rule.

Revise Table Formatting Error in 10 CFR Part 171

The table in paragraph (c) of § 171.16 is missing a colon and a hard return that would separate the heading, “Educational Institutions that are not State or Publicly Supported, and have 500 Employees or Fewer,” from the subsequent list item, “35 to 500 employees.” The formatting errors are corrected, adding a colon after the word “Fewer” and separating the list heading from the subsequent list item.

Update Location of Information Collections Citation in 10 CFR Part 110

In a final rule (75 FR 44072; July 28, 2010), the information collections were moved from §§ 110.23 and 110.26 to § 110.54. Section 110.7 is updated to reflect this reorganization of provisions.

Delete Footnote in 10 CFR Part 170

A final rule (76 FR 36786; June 22, 2011) eliminated footnote 5 in 10 CFR 170.31 and renumbered footnote 6 to footnote 5. Subsections 15.M through 15.Q were removed and reserved. The rule language inadvertently added a new footnote 6 next to the “Reserved” subsections 15.M through 15.Q that said “There are no existing NRC licenses in the fee category.” In § 170.31, the new footnote 6 and corresponding references in 15.M through 15.Q are removed.

Change in Street Address for Region IV

The street address of the NRC Region IV office has been changed. The new address is incorporated into the following sections of the NRC's regulations: Sec. 1.5(b)(4), Appendix D to 10 CFR part 20, Sec. 30.6(b)(2)(iv), Sec. 40.5(b)(2)(iv), Sec. 55.5(b)(2)(iv), Sec. 70.5(b)(2)(iv), and Appendix A to 10 CFR part 73.

Rulemaking Procedure

Because these amendments constitute minor administrative corrections to the regulations, the Commission finds that the notice and comment provisions of the Administrative Procedure Act are unnecessary and is exercising its authority under 5 U.S.C. 553(b)(3)(B) to publish these amendments as a final rule. The amendments are effective December 22, 2011. These amendments do not require action by any person or entity regulated by the NRC. Also, the final rule does not change the substantive responsibilities of any person or entity regulated by the NRC.

Environmental Impact: Categorical Exclusion

The NRC has determined that this final rule is the type of action described in categorical exclusion 10 CFR 51.22(c)(2), which excludes from a major action rules which are corrective or of a minor or nonpolicy nature and do not substantially modify existing regulations. Therefore, neither an environmental impact statement nor an environmental assessment has been prepared for this rule.

Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement unless the requesting document displays a currently valid Office of Management and Budget control number.

Backfit Analysis

The NRC has determined that the backfit rule does not apply to this final rule; therefore, a backfit analysis is not required for this final rule because these amendments are administrative in nature and do not involve any provisions that would impose backfits as defined in 10 CFR chapter I, or would be inconsistent with the issue finality provisions in 10 CFR part 52.

Congressional Review Act (CRA)

Under the CRA of 1996, the NRC has determined that this action is not a major rule and has verified this determination with the Office of Information and Regulatory Affairs of the Office of Management and Budget.

List of Subjects

10 CFR Part 1

Organization and functions (Government Agencies).

10 CFR Part 9

Criminal penalties, Freedom of information, Privacy, Reporting and recordkeeping requirements, Sunshine Act.

10 CFR Part 19

Criminal penalties, Environmental protection, Nuclear materials, Nuclear power plants and reactors, Occupational safety and health, Radiation protection, Reporting and recordkeeping requirements, Sex discrimination.

10 CFR Part 20

Byproduct material, Criminal penalties, Licensed material, Nuclear materials, Nuclear power plants and reactors, Occupational safety and health, Packaging and containers, Radiation protection, Reporting and recordkeeping requirements, Source material, Special nuclear material, Waste treatment and disposal.

10 CFR Part 30

Byproduct material, Criminal penalties, Government contracts, Intergovernmental relations, Isotopes, Nuclear materials, Radiation protection, Reporting and recordkeeping requirements.

10 CFR Part 35

Byproduct material, Criminal penalties, Drugs, Health facilities, Health professions, Medical devices, Nuclear materials, Occupational safety and health, Radiation protection, Reporting and recordkeeping requirements.

10 CFR Part 40

Criminal penalties, Government contracts, Hazardous materials transportation, Nuclear materials, Reporting and recordkeeping requirements, Source material, Uranium.

10 CFR Part 52

Administrative practice and procedure, Antitrust, Backfitting, Combined license, Early site permit, Emergency planning, Fees, Inspection, Limited work authorization, Nuclear power plants and reactors, Probabilistic risk assessment, Prototype, Reactor siting criteria, Redress of site, Reporting and recordkeeping requirements, Standard design, Standard design certification.

10 CFR Part 55

Criminal penalties, Manpower training programs, Nuclear power plants and reactors, Reporting and recordkeeping requirements.

10 CFR Part 60

Criminal penalties, High-level waste, Nuclear materials, Nuclear power plants and reactors, Reporting and recordkeeping requirements, Waste treatment and disposal.

10 CFR Part 61

Criminal penalties, Low-level waste, Nuclear materials, Reporting and recordkeeping requirements, Waste treatment and disposal.

10 CFR Part 70

Criminal penalties, Hazardous materials transportation, Material control and accounting, Nuclear materials, Packaging and containers, Radiation protection, Reporting and recordkeeping requirements, Scientific equipment, Security measures, Special nuclear material.

10 CFR Part 73

Criminal penalties, Export, Hazardous materials transportation, Import, Nuclear materials, Nuclear power plants and reactors, Reporting and recordkeeping requirements, Security measures.

10 CFR Part 110

Administrative practice and procedure, Classified information, Criminal penalties, Export, Import, Intergovernmental relations, Nuclear materials, Nuclear power plants and reactors, Reporting and recordkeeping requirements, Scientific equipment.

10 CFR Part 170

Byproduct material, Import and export licenses, Intergovernmental relations, Non-payment penalties, Nuclear materials, Nuclear power plants and reactors, Source material, Special nuclear material.

10 CFR Part 171

Annual charges, Byproduct material, Holders of certificates, Registrations, Approvals, Intergovernmental relations, Nonpayment penalties, Nuclear materials, Nuclear power plants and reactors, Source material, Special nuclear material.

For the reasons set out in the preamble and under the authority of the Atomic Energy Act of 1954, as amended; the Energy Reorganization Act of 1974, as amended; and 5 U.S.C. 552 and 553, the NRC is adopting the following amendments to 10 CFR parts 1, 9, 19, 20, 30, 35, 40, 52, 55, 60, 61, 70, 73, 110, 170, and 171.

PART 1—STATEMENT OF ORGANIZATION AND GENERAL INFORMATION

1. The authority citation for part 1 continues to read as follows:

Authority: Sec. 23, 16181, 68 Stat. 925, 948, as amended (42 U.S.C. 2033, 2201); sec. 29, Pub. L. 85-256, 71 Stat. 759, Pub. L. 95-209, 91 Stat. 1483 (42 U.S.C. 2039); sec. 191, Pub. L. 87-615, 76 Stat. 409 (42 U.S.C. 2241); secs. 201, 203, 204, 205, 209, 88 Stat. 1242, 1244, 1245, 1246, 1248, as amended (42 U.S.C. 5841, 5843, 5844, 5845, 5849); 5 U.S.C. 552, 553; Reorganization Plan No. 1 of 1980, 45 FR 40561, June 16, 1980.

2. In § 1.5, revise paragraph (b)(4) to read as follows:

§ 1.5 Location of principal offices and Regional Offices.

* * * * *

(b) * * *

(4) Region IV, US NRC, 1600 E. Lamar Blvd., Arlington, TX 76011-4511.

PART 9—PUBLIC RECORDS

3. The authority citation for part 9 continues to read as follows:

Authority: Sec. 161, 68 Stat. 948, as amended (42 U.S.C. 2201); sec. 201, 88 Stat. 1242, as amended (42 U.S.C. 5841); sec. 1704, 112 Stat. 2750 (44 U.S.C. 3504 note).

Subpart A also issued 5 U.S.C. 552; 31 U.S.C. 9701; Pub. L. 99-570.

Subpart B is also issued under 5 U.S.C. 552a.

Subpart C is also issued under 5 U.S.C. 552b.

§ 9.27 [Amended]

4. In § 9.27, paragraph (a), third sentence, remove the term “NRC's Electronic Reading Room” and add in its place the term “NRC Library.”

PART 19—NOTICES, INSTRUCTIONS AND REPORTS TO WORKERS: INSPECTION AND INVESTIGATIONS

5. The authority citation for part 19 continues to read as follows:

Authority: 53, 63, 81, 103, 104, 161, 186, 68 Stat. 930, 933, 935, 936, 937, 948, 955, as amended, sec. 234, 83 Stat. 444, as amended, sec. 1701, 106 Stat. 2951, 2952, 2953 (42 U.S.C. 2073, 2093, 2111, 2133, 2134, 2201, 2236, 2282, 2297f); sec. 201, 88 Stat. 1242, as amended (42 U.S.C. 5841); Pub. L. 95-601, sec. 10, 92 Stat. 2951 (42 U.S.C. 5851); sec. 1704, 112 Stat. 2750 (44 U.S.C. 3504 note).

Section 19.32 is also issued under sec. 401, 88 Stat. 1254 (42 U.S.C. 5891).

§ 19.14 [Amended]

6. In § 19.14, paragraph (b), second sentence, remove the word “phrases” and add in its place the word “phases.”

PART 20—STANDARDS FOR PROTECTION AGAINST RADIATION

7. The authority citation for part 20 continues to read as follows:

Authority: Secs. 53, 63, 65, 81, 103, 104, 161, 182, 186, 68 Stat. 930, 933, 935, 936, 937, 948, 953, 955, as amended, sec. 1701, 106 Stat. 2951, 2952, 2953 (42 U.S.C. 2073, 2093, 2095, 2111, 2133, 2134, 2201, 2232, 2236, 2297f), secs. 201, as amended, 202, 206, 88 Stat. 1242, as amended, 1244, 1246 (42 U.S.C. 5841, 5842, 5846); sec. 1704, 112 Stat. 2750 (44 U.S.C. 3504 note); sec. 651(e), Pub. L. 109-58, 119 Stat. 806-810 (42 U.S.C. 2014, 2021, 2021b, 2111).

8. In Appendix D to part 20, second column, revise the address for Region IV to read as follows:

Appendix D to Part 20—United States Nuclear Regulatory Commission Regional Offices

* * * * *

US NRC, Region IV, 1600 E. Lamar Blvd., Arlington, TX 76011-4511.

* * * * *

PART 30—RULES OF GENERAL APPLICABILITY TO DOMESTIC LICENSING OF BYPRODUCT MATERIAL

9. The authority citation for part 30 continues to read as follows:

Authority: Secs. 81, 82, 161, 182, 183, 186, 68 Stat. 935, 948, 953, 954, 955, as amended, sec. 234, 83 Stat. 444, as amended (42 U.S.C. 2111, 2112, 2201, 2232, 2233, 2236, 2282); secs. 201, as amended, 202, 206, 88 Stat. 1242, as amended, 1244, 1246 (42 U.S.C. 5841, 5842, 5846); sec. 1704, 112 Stat. 2750 (44 U.S.C. 3504 note); Energy Policy Act of 2005, Pub. L. No. 109-58, 119 Stat. 549 (2005).

Section 30.7 also issued under Pub. L. 95-601, sec. 10, 92 Stat. 2951 as amended by Pub. L. 102-486, sec. 2902, 106 Stat. 3123 (42 U.S.C. 5851). Section 30.34(b) also issued under sec. 184, 68 Stat. 954, as amended (42 U.S.C. 2234). Section 30.61 also issued under sec. 187, 68 Stat. 955 (42 U.S.C. 2237).

10. In § 30.6, revise the second sentence of paragraph (b)(2)(iv)(A) and the second sentence of paragraph (b)(2)(iv)(B) to read as follows:

§ 30.6 Communications.

* * * * *

(b) * * *

(2) * * *

(iv) * * *

(A) * * * All mailed or hand-delivered inquiries, communications, and applications for a new license or an amendment, renewal, or termination request of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov.

(B) * * * All mailed or hand-delivered inquiries, communications, and applications for a new license or an amendment, renewal, or termination request of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov.

PART 35—MEDICAL USE OF BYPRODUCT MATERIAL

11. The authority citation for part 35 continues to read as follows:

Authority: Secs. 81, 161, 182, 183, 68 Stat. 935, 948, 953, 954, as amended (42 U.S.C. 2111, 2201, 2232, 2233); sec. 201, 88 Stat. 1242, as amended (42 U.S.C. 5841); sec. 1704, 112 Stat. 2750 (44 U.S.C. 3504 note); sec. 651(e), Pub. L. 109-58, 119 Stat. 806-810 (42 U.S.C. 2014, 2021, 2021b, 2111).

§ 35.50 [Amended]

12. In § 35.50:

a. In paragraph (a)(2)(ii)(B), add the word ” and” at the end after the semi-colon.

b. In the introductory text of paragraph (b)(1)(i), remove the reference “-(ii)” at the end and add in its place “—.”

§ 35.3045 [Amended]

13. In § 35.3045, footnote 3, remove the telephone number “(301) 951-0550” and add in its place the telephone number “(301) 816-5100.”

PART 40—DOMESTIC LICENSING OF SOURCE MATERIAL

14. The authority citation for part 40 continues to read as follows:

Authority: Secs. 62, 63, 64, 65, 81, 161, 182, 183, 186, 68 Stat. 932, 933, 935, 948, 953, 954, 955, as amended, secs. 11e(2), 83, 84, Pub. L. 95-604, 92 Stat. 3033, as amended, 3039, sec. 234, 83 Stat. 444, as amended (42 U.S.C. 2014(e)(2), 2092, 2093, 2094, 2095, 2111, 2113, 2114, 2201, 2232, 2233, 2236, 2282); sec. 274, Pub. L. 86-373, 73 Stat. 688 (42 U.S.C. 2021); secs. 201, as amended, 202, 206, 88 Stat. 1242, as amended, 1244, 1246 (42 U.S.C. 5841, 5842, 5846); sec. 275, 92 Stat. 3021, as amended by Pub. L. 97-415, 96 Stat. 2067 (42 U.S.C. 2022); sec. 193, 104 Stat. 2835, as amended by Pub. L. 104-134, 110 Stat. 1321, 1321-349 (42 U.S.C. 2243); sec. 1704, 112 Stat. 2750 (44 U.S.C. 3504 note); Energy Policy Act of 2005, Pub. L. 109-59, 119 Stat. 594 (2005).

Section 40.7 also issued under Pub. L. 95-601, sec. 10, 92 Stat. 2951 as amended by Pub. L. 102-486, sec. 2902, 106 Stat. 3123 (42 U.S.C. 5851). Section 40.31(g) also issued under sec. 122, 68 Stat. 939 (42 U.S.C. 2152). Section 40.46 also issued under sec. 184, 68 Stat. 954, as amended (42 U.S.C. 2234). Section 40.71 also issued under sec. 187, 68 Stat. 955 (42 U.S.C. 2237).

15. In § 40.5, revise the second sentence of paragraph (b)(2)(iv)(A) and the second sentence of paragraph (b)(2)(iv)(B) to read as follows:

§ 40.5 Communications.

* * * * *

(b) * * *

(2) * * *

(iv) * * *

(A) * * * All mailed or hand-delivered inquiries, communications, and applications for a new license or an amendment or renewal of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov.

(B) * * * All mailed or hand-delivered inquiries, communications, and applications for a new license or an amendment or renewal of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov.

PART 52—LICENSES, CERTIFICATIONS, AND APPROVALS FOR NUCLEAR POWER PLANTS

16. The authority citation for part 52 continues to read as follows:

Authority: Secs. 103, 104, 161, 182, 183, 186, 189, 68 Stat. 936, 948, 953, 954, 955, 956, as amended, sec. 234, 83 Stat. 444, as amended (42 U.S.C. 2133, 2201, 2232, 2233, 2236, 2239, 2282); secs. 201, 202, 206, 88 Stat. 1242, 1244, 1246, as amended (42 U.S.C. 5841, 5842, 5846); sec. 1704, 112 Stat. 2750 (44 U.S.C. 3504 note); Energy Policy Act of 2005, Pub. L. 109-58, 119 Stat. 594 (2005), secs. 147 and 149 of the Atomic Energy Act.

Appendix A to Part 52—[Amended]

17. In Appendix A to part 52, paragraph III.A, last sentence, remove the zip code “20582” and add in its place the zip code “20852.”

Appendix B to Part 52—[Amended]

18. In Appendix B to part 52, paragraph III.A, last sentence, remove the zip code “20582” and add in its place the zip code “20852.”

Appendix C to Part 52—[Amended]

19. In Appendix C to part 52, paragraph III.A, last sentence, remove the zip code “20582” and add in its place the zip code “20852.”

PART 55—OPERATORS' LICENSES

20. The authority citation for part 55 continues to read as follows:

Authority: Secs. 107, 161, 182, 68 Stat. 939, 948, 953, as amended, sec. 234, 83 Stat. 444, as amended (42 U.S.C. 2137, 2201, 2232, 2282); secs. 201, as amended, 202, 88 Stat. 1242, as amended, 1244 (42 U.S.C. 5841, 5842); sec. 1704, 112 Stat. 2750 (44 U.S.C. 3504 note). Sections 55.41, 55.43, 55.45, and 55.59 also issued under sec. 306, Pub. L. 97-425, 96 Stat. 2262 (42 U.S.C. 10226).

Section 55.61 also issued under secs. 186, 187, 68 Stat. 955 (42 U.S.C. 2236, 2237).

21. In § 55.5, revise the second sentence of paragraph (b)(2)(iv) to read as follows:

§ 55.5 Communications.

* * * * *

(b) * * *

(2) * * *

(iv) * * * Submission by mail or hand delivery must be addressed to the Administrator at U.S. Nuclear Regulatory Commission, 1600 E. Lamar Blvd., Arlington, TX 76011-4511; where email is appropriate, it should be addressed to RidsRgn4MailCenter@nrc.gov.

* * * * *

PART 60—DISPOSAL OF HIGH-LEVEL RADIOACTIVE WASTES IN GEOLOGIC REPOSITORIES

22. The authority citation for part 60 continues to read as follows:

Authority: Secs. 51, 53, 62, 63, 65, 81, 161, 182, 183, 68 Stat. 929, 930, 932, 933, 935, 948, 953, 954, as amended (42 U.S.C. 2071, 2073, 2092, 2093, 2095, 2111, 2201, 2232, 2233); secs. 202, 206, 88 Stat. 1244, 1246 (42 U.S.C. 5842, 5846); secs. 10 and 14, Pub. L. 95-601, 92 Stat. 2951 (42 U.S.C. 2021a and 5851); sec. 102, Pub. L. 91-190, 83 Stat. 853 (42 U.S.C. 4332); secs. 114, 121, Pub. L. 97-425, 96 Stat. 2213g, 2228, as amended (42 U.S.C. 10134, 10141), and Pub. L. 102-486, sec. 2902, 106 Stat. 3123 (42 U.S.C. 5851); sec. 1704, 112 Stat. 2750 (44 U.S.C. 3504 note); Energy Policy Act of 2005, Pub. L. No. 109-58, 119 Stat. 594 (2005).

§ 60.2 [Amended]

23. In § 60.2, the definition of “NRC Public Document Room”:

a. In the first sentence, add the zip code “20852” after “Maryland,”

b. In the second sentence, remove the term “Electronic Reading Room” and add in its place the term “NRC Library”; and

c. In the fourth sentence, remove the email address “PDR@nrc.gov” and add in its place the email address “PDR.Resource@nrc.gov.”

§ 60.75 [Amended]

24. In § 60.75, paragraph (c)(2), third sentence, remove the word “accomodate” and add in its place the word “accommodate.”

PART 61—LICENSING REQUIREMENTS FOR LAND DISPOSAL OF RADIOACTIVE WASTE

25. The authority citation for part 61 is revised to read as follows:

Authority: Secs. 53, 57, 62, 63, 65, 81, 161, 182, 183, 68 Stat. 930, 932, 933, 935, 948, 953, 954, as amended (42 U.S.C. 2073, 2077, 2092, 2093, 2095, 2111, 2201, 2232, 2233); secs. 202, 206, 88 Stat. 1244, 1246 (42 U.S.C. 5842, 5846); secs. 10 and 14, 95, 92 Stat. 2951 (42 U.S.C. 2021a and 5851) and 102, sec. 2902, 106 Stat. 3123, (42 U.S.C. 5851); sec. 1704, 112 Stat. 2750 (44 U.S.C. 3504 note); sec. 651(e), Pub. L. 109-58, 119 Stat. 806-810 (42 U.S.C. 2014, 2021, 2021b, 2111).

PART 70—DOMESTIC LICENSING OF SPECIAL NUCLEAR MATERIAL

26. The authority citation for part 70 continues to read as follows:

Authority: Secs. 51, 53, 161, 182, 183, 68 Stat. 929, 930, 948, 953, 954, as amended, sec. 234, 83 Stat. 444, as amended, (42 U.S.C. 2071, 2073, 2201, 2232, 2233, 2282, 2297f); secs. 201, as amended, 202, 204, 206, 88 Stat. 1242, as amended, 1244, 1245, 1246 (42 U.S.C. 5841, 5842, 5845, 5846). Sec. 193, 104 Stat. 2835 as amended by Pub. L. 104-134, 110 Stat. 1321, 1321-349 (42 U.S.C. 2243); sec. 1704, 112 Stat. 2750 (44 U.S.C. 3504 note); Energy Policy Act of 2005, Pub. L. No. 109-58, 119 Stat. 194 (2005).

Sections 70.1(c) and 70.20a(b) also issued under secs. 135, 141, Pub. L. 97-425, 96 Stat. 2232, 2241 (42 U.S.C. 10155, 10161).

Section 70.7 also issued under Pub. L. 95-601, sec. 10, 92 Stat. 2951 as amended by Pub. L. 102-486, sec. 2902, 106 Stat. 3123 (42 U.S.C. 5851). Section 70.21(g) also issued under sec. 122, 68 Stat. 939 (42 U.S.C. 2152). Section 70.31 also issued under sec. 57d, Pub. L. 93-377, 88 Stat. 475 (42 U.S.C. 2077). Sections 70.36 and 70.44 also issued under sec. 184, 68 Stat. 954, as amended (42 U.S.C. 2234). Section 70.81 also issued under secs. 186, 187, 68 Stat. 955 (42 U.S.C. 2236, 2237). Section 70.82 also issued under sec. 108, 68 Stat. 939, as amended (42 U.S.C. 2138).

27. In § 70.5, revise the second sentence of paragraph (b)(2)(iv)(A) and the second sentence of paragraph (b)(2)(iv)(B) to read as follows:

§ 70.5 Communications.

* * * * *

(b) * * *

(2) * * *

(iv) * * *

(A) * * * All mailed or hand-delivered inquiries, communications, and applications for a new license or an amendment or renewal of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov.

(B) * * * All mailed or hand-delivered inquiries, communications, and applications for a new license or an amendment or renewal of an existing license specified in paragraph (b)(1) of this section must use the following address: U.S. Nuclear Regulatory Commission, Region IV, Division of Nuclear Materials Safety, 1600 E. Lamar Blvd., Arlington, TX 76011-4511; where email is appropriate, it should be addressed to RidsRgn4MailCenter@nrc.gov. * * *

PART 73—PHYSICAL PROTECTION OF PLANTS AND MATERIALS

28. The authority citation for part 73 continues to read as follows:

Authority: Secs. 53, 161, 149, 68 Stat. 930, 948, as amended, sec. 147, 94 Stat. 780 (42 U.S.C. 2073, 2167, 2169, 2201); sec. 201, as amended, 204, 88 Stat. 1242, as amended, 1245, sec. 1701, 106 Stat. 2951, 2952, 2953 (42 U.S.C. 5841, 5844, 2297f); sec. 1704, 112 Stat. 2750 (44 U.S.C. 3504 note); Energy Policy Act of 2005, Pub. L. 109-58, 119 Stat. 594 (2005).

Section 73.1 also issued under secs. 135, 141, Pub. L. 97-425, 96 Stat. 2232, 2241 (42 U.S.C. 10155, 10161). Section 73.37(f) also issued under sec. 301, Pub. L. 96-295, 94 Stat. 789 (42 U.S.C. 5841 note). Section 73.57 is issued under sec. 606, Pub. L. 99-399, 100 Stat. 876 (42 U.S.C. 2169).

29. In Appendix A to Part 73, first table, second column, and second table, second column, revise the address for Region IV to read as follows:

Appendix A to Part 73—U.S. Nuclear Regulatory Commission Offices and Classified Mailing Addresses

* * * * *

US NRC, Region IV, 1600 E. Lamar Blvd., Arlington, TX 76011-4511.

* * * * *

US NRC, Region IV, 1600 E. Lamar Blvd., Arlington, TX 76011-4511.

* * * * *

PART 110—EXPORT AND IMPORT OF NUCLEAR EQUIPMENT AND MATERIAL

30. The authority citation for part 110 continues to read as follows:

Authority: Secs. 51, 53, 54, 57, 63, 64, 65, 81, 82, 103, 104, 109, 111, 126, 127, 128, 129, 134, 161, 170H., 181, 182, 187, 189, 68 Stat. 929, 930, 931, 932, 933, 936, 937, 948, 953, 954, 955, 956, as amended (42 U.S.C. 2071, 2073, 2074, 2077, 2092-2095, 2111, 2112, 2133, 2134, 2139, 2139a, 2141, 2154-2158, 2160d., 2201, 2210h., 2231-2233, 2237, 2239); sec. 201, 88 Stat. 1242, as amended (42 U.S.C. 5841); sec. 5, Pub. L. 101-575, 104 Stat. 2835 (42 U.S.C. 2243); sec. 1704, 112 Stat. 2750 (44 U.S.C. 3504 note); Energy Policy Act of 2005; Pub. L. 109-58, 119 Stat. 594 (2005).

Sections 110.1(b)(2) and 110.1(b)(3) also issued under Pub. L. 96-92, 93 Stat. 710 (22 U.S.C. 2403). Section 110.11 also issued under sec. 122, 68 Stat. 939 (42 U.S.C. 2152) and secs. 54c and 57d, 88 Stat. 473, 475 (42 U.S.C. 2074). Section 110.27 also issued under sec. 309(a), Pub. L. 99-440. Section 110.50(b)(3) also issued under sec. 123, 92 Stat. 142 (42 U.S.C. 2153). Section 110.51 also issued under sec. 184, 68 Stat. 954, as amended (42 U.S.C. 2234). Section 110.52 also issued under sec. 186, 68 Stat. 955 (42 U.S.C. 2236). Sections 110.80-110.113 also issued under 5 U.S.C. 552, 554. Sections 110.130-110.135 also issued under 5 U.S.C. 553. Sections 110.2 and 110.42(a)(9) also issued under sec. 903, Pub. L. 102-496 (42 U.S.C. 2151 et seq.).

31. Section 110.7, paragraph (b), is revised to read as follows:

§ 110.7 Information collection requirements: OMB approval.

* * * * *

(b) The approved information requirements contained in this part appear in §§ 110.7a, 110.27, 110.32, 110.50, 110.52, 110.53, and 110.54.

* * * * *

PART 170—FEES FOR FACILITIES, MATERIALS IMPORT AND EXPORT LICENSES AND OTHER REGULATORY SERVICES UNDER THE ATOMIC ENERGY ACT OF 1954, AS AMENDED

32. The authority citation for part 170 continues to read as follows:

Authority: Sec. 9701, Pub. L. 97-258, 96 Stat. 1051 (31 U.S.C. 9701); sec. 301, Pub. L. 92-314, 86 Stat. 227 (42 U.S.C. 2201(w)); sec. 201, Pub. L. 93-438, 88 Stat. 1242, as amended (42 U.S.C. 5841); sec. 205a, Pub. L. 101-576, 104 Stat. 2842, as amended (31 U.S.C. 901, 902); sec. 1704, 112 Stat. 2750 (44 U.S.C. 3504 note); sec. 623, Pub. L. 109-58, 119 Stat. 783 (42 U.S.C. 2201(w)); sec. 651(e), Pub. L. 109-58, 119 Stat. 806-810 (42 U.S.C. 2014, 2021, 2021b, 2111).

§ 170.31 [Amended]

33. In § 170.31, remove footnote 6 and the corresponding reference to footnote 6 in 15.M, 15.N, 15.O, 15.P, and 15.Q.

PART 171—ANNUAL FEES FOR REACTOR LICENSES AND FUEL CYCLE LICENSES AND MATERIAL LICENSES, INCLUDING HOLDERS OF CERTIFICATES OF COMPLIANCE, REGISTRATIONS, AND QUALITY ASSURANCE PROGRAM APPROVALS AND GOVERNMENT AGENCIES LICENSED BY NRC

34. The authority citation for part 171 continues to read as follows:

Authority: Sec. 7601, Pub. L. 99-272, 100 Stat. 146, as amended by sec. 5601, Pub. L. 100-203, 101 Stat. 1330 as amended by sec. 3201, Pub. L. 101-239, 103 Stat. 2132, as amended by sec. 6101, Pub. L. 101-508, 104 Stat. 1388, as amended by sec. 2903a, Pub. L. 102-486, 106 Stat. 3125 (42 U.S.C. 2213, 2214), and as amended by Title IV, Pub. L. 109-103, 119 Stat. 2283 (42 U.S.C. 2214); sec. 301, Pub. L. 92-314, 86 Stat. 227 (42 U.S.C. 2201w); sec. 201, Pub. L. 93-438, 88 Stat. 1242, as amended (42 U.S.C. 5841); sec. 1704, 112 Stat. 2750 (44 U.S.C. 3504 note); sec. 651(e), Pub. L. 109-58, 119 Stat. 806-810 (42 U.S.C. 2014, 2021, 2021b, 2111).

35. In § 171.16, paragraph (c), the table is revised to read as follows:

§ 171.16 Annual fees: Materials licensees, holders of certificates of compliance, holders of sealed source and device registrations, holders of quality assurance program approvals, and government agencies licensed by the NRC.

* * * * *

(c) * * *

| Maximum annual fee per licensed category
Small Businesses Not Engaged in Manufacturing (Average gross receipts over last 3 completed fiscal years):
$450,000 to $6.5 million | $2,300
Less than $450,000 | 500
Small Not-For-Profit Organizations (Annual Gross Receipts):
$450,000 to $6.5 million | 2,300
Less than $450,000 | 500
Manufacturing entities that have an average of 500 employees or fewer:
35 to 500 employees | 2,300
Fewer than 35 employees | 500
Small Governmental Jurisdictions (Including publicly supported educational institutions) (Population):
20,000 to 50,000 | 2,300
Fewer than 20,000 | 500
Educational Institutions that are not State or Publicly Supported, and have 500 Employees or Fewer:
35 to 500 employees | 2,300
Fewer than 35 employees | 500

* * * * *

Dated at Rockville, Maryland, this 10th day of November 2011.
For the Nuclear Regulatory Commission.
Cindy Bladey,
Chief, Rules, Announcements, and Directives Branch, Division of Administrative Services, Office of Administration.

[FR Doc. 2011-29669 Filed 11-21-11; 8:45 am]

BILLING CODE 7590-01-P